DEPARTMENT OF THE INTERIOR

Bureau of Reclamation

CALFED Bay-Delta Program Policy Group

AGENCY: Bureau of Reclamation, Interior.

ACTION: Notice of meeting.

SUMMARY: The CALFED Bay-Delta Program Policy Group will meet on December 13, 2000. The agenda for the Policy Group meeting will include discussions about CALFED's: Record of Decision Commitments; Ecosystem Restoration 2001 Funding Package; and Operation and Implementation Budget. This meeting is open to the public. Interested persons may make oral statements to the CALFED Bay-Delta Program Policy Group or may file written statements for consideration.

DATES: The CALFED Bay-Delta Program Policy Group meeting will be held from 1 p.m. to 5 p.m. on Wednesday, December 13, 2000.

ADDRESSES: This meeting will meet at the Sacramento Convention Center, 1400 J Street, Room 103-104, Sacramento, CA 95814.

FOR FURTHER INFORMATION CONTACT: Rick Breitenbach, CALFED Bay-Delta Program, at (916) 657-2666. If reasonable accommodation is needed due to a disability, please contact the Equal Employment Opportunity Office at (916) 653-6952 or TDD (916) 653-6934 at least one week prior to the meeting.

SUPPLEMENTARY INFORMATION: The San Francisco Bay/Sacramento-San Joaquin Delta Estuary (Bay-Delta system) is a critically important part of California's natural environment and economy. In recognition of the serious problems facing the region and the complex resource management decisions that must be made, the state of California and the Federal government are working together to stabilize, protect, restore, and enhance the Bay-Delta system. The State and Federal agencies with management and regulatory responsibilities in the Bay-Delta system are working together as CALFED to provide policy direction and oversight for the process.

One area of Bay-Delta management includes a joint State-Federal process to develop and implement long-term solutions to problems in the Bay-Delta system related to fish and wildlife, water supply reliability, natural disasters, and water quality. This effort, the CALFED Bay-Delta Program (Program), is being carried out under the direction of the CALFED Policy Group.

Dated: November 22, 2000.
Lester A. Snow,
Regional Director.

[FR Doc. 00-30402 Filed 11-28-00; 8:45 am]

BILLING CODE 4310-MP-M